ENVIRONMENTAL PROTECTION AGENCY

[FRL-6970-1]

Science Advisory Board; Notification of Public Advisory Committee Meeting

Pursuant to the Federal Advisory Committee Act, Public Law 92-463, notice is hereby given that the National-Scale Air Toxics Assessment (NATA) Review Panel (hereafter, “NATA Review Panel”) of the USEPA Science Advisory Board's (SAB) Executive Committee (EC) will meet on the dates and times noted below. All times noted are Eastern Standard Time. All meetings are open to the public; however, seating is limited and available on a first come basis. Important Notice: Documents that are the subject of SAB reviews are normally available from the originating EPA office and are not available from the SAB Office—information concerning availability of documents from the relevant Program Office is included below.

1. EC/NATA Review Panel Conference Call—May 14, 2001

The NATA Review Panel will conduct a public conference call on Monday, May 14, 2001 from 11 a.m. to 1 p.m. (Eastern Standard Time). The call will be hosted out of the EPA Science Advisory Board Conference Room (Room 6013), Ariel Rios Federal Building, 1200 Pennsylvania Avenue, NW., Washington, DC 20004. Interested members of the public may attend in person or connect to the conference by phone. The purpose of the call is to provide Panel Members with the opportunity to reach closure on their draft report. See below for details of the review, to request any supplemental materials from the Agency or ask questions on materials already received from the Agency

The NATA Review Panel is planning to have a closure discussion on its draft report in review of the EPA Document entitled “National-Scale Air Toxics Assessment for 1996,” EPA-453/R-01-003, dated January, 2001 and supporting appendices. This document represents an initial national-scale assessment of the potential health risks associated with inhalation exposures to 32 air toxics identified as priority pollutants by the Agency's Integrated Urban Air Toxics Strategy, plus diesel emissions. More information about the previous meetings can be found in 66 FR 9846, February 12, 2001. The NATA Review Panel is commenting on the charge questions which were outlined in the above Federal Register notice and pertain to appropriateness of the overall approach, including the data, models, and methods used, and the ways these elements have been integrated, as well as to suggest ways to improve these approaches for subsequent national-scale assessments.

Providing Public Comments

The NATA Review Panel will be accepting oral or written public comments at the conference call, but is asking participants to focus on three aspects of the SAB NATA Panel's draft report, namely: (1) Has the NATA Review Panel adequately responded to the questions posed in the charge?; (2) Are any statements or responses made in the draft unclear?; and, (3) Are there any technical errors? Oral and written public comments were previously accepted at the March 20-21, 2001 meeting in review of this topic.

For Further Information

To obtain information concerning this conference call, please contact Dr. K. Jack Kooyoomjian, Designated Federal Officer (DFO) (see contact information below). To obtain information about how to participate in this conference call, please contact Ms. Betty Fortune (see contact information below). A draft agenda for the teleconference will be posted on the SAB website (www.epa.gov/sab) approximately one week prior to the conference call. The draft report, once it becomes a consensus draft will also be posted on the SAB website. It is anticipated that this will be posted in early May.

Availability of Review Materials

All the Agency OAQPS NATA-related review and informational materials, including the NATA Report, the Appendices, all briefing and presentation materials previously provided to the SAB may be obtained on the web at the following URL site: http://www.epa.gov/ttn/uatw/sab/sabrev.html.

Alternately, a copy of the review document (National-Scale Air Toxics Assessment for 1996, EPA-453/R-01-003, dated January, 2001) and supporting appendices can be obtained from Ms. Barbara Miles at U.S. EPA, OAQPS/ESD/REAG (MD-13), Research Triangle Park, NC 27711; telephone (919) 541-5648; facsimile (919) 541-0840; e-mail miles.barbara@epa.gov. Please provide the title and the EPA number for the document, as well as your name and address. The document will be dispensed in CD ROM format unless the requestor requires a paper copy. Internet users may also download a copy from EPA's National Center for Environmental Assessment's (NCEA) website (http://www.epa.gov/nata/).

Following the conference call meeting, the NATA Review Panel will revise its draft report and forward it to the SAB Executive Committee for final review and approval, prior to transmittal to the Agency. This review will be announced in a subsequent Federal Register notice.

For Further Information

Members of the public desiring additional information about the meeting should contact Dr. K. Jack Kooyoomjian, Designated Federal Officer (DFO), Environmental Models Subcommittee, National-Scale Air Toxics Assessment Review Panel, US EPA Science Advisory Board (1400A), U.S. EPA, 1200 Pennsylvania Avenue, NW., Washington, DC 20460 (FedEx address: US EPA Science Advisory Board, Suite 6450, 1200 Pennsylvania Avenue, NW., Washington, DC 20004); telephone/voice mail at (202) 564-4557; fax at (202) 501-0582; or via e-mail at kooyoomjian.jack @epa.gov. The draft agenda will be available approximately two weeks prior to the meetings on the SAB website (http://www.epa.gov/sab) or from Ms. Betty Fortune at (202) 564-4534; fax: (202) 501-0582; or e-mail at: fortune.betty@epa.gov.

Providing Public Comments

Members of the public who wish to make a brief oral presentation at the meeting must contact Dr. Kooyoomjian in writing (by letter, fax, or e-mail—see previously stated information) no later than 12 noon Eastern Time, Monday, May 4, 2001 in order to be included on the Agenda. Written statements will be accepted in the SAB Staff office up until two days following the meeting (by close of business, May 16, 2001).

2. Executive Committee—Teleconference Meeting—May 23, 2001

The US EPA's Science Advisory Board's (SAB's) Executive Committee will conduct a public teleconference meeting on Wednesday, May 23, 2001 between the hours of 11 a.m. to 2 p.m. Eastern Time. The meeting will be coordinated through a conference call connection in Room 6013 in the USEPA Ariel Rios Building, 1200 Pennsylvania Avenue, NW., Washington, DC 20460. The public is encouraged to attend the meeting in the conference room noted above. However, the public may also attend through a telephonic link, to the extent that lines are available. Additional instructions about how to participate in the conference call can be obtained by calling Ms. Diana Pozun (see contact information below).

Purpose of the Meeting

In this meeting, the Executive Committee plans to review reports from some of its Committees/Subcommittees, most likely including the following two reports. Please check with Ms. Pozun to see if additional reports will be considered.

(a) Radiation Advisory Committee (RAC): “GENII Ver. 2: USEPA's Use and Adaptation of GENII Environmental Radiation Dosimetry System—An SAB Advisory” (see 65 FR 18095, dated April 6, 2000 for details).

(b) Radiation Advisory Committee (RAC): Advisory on the “Radiation in Sewage Sludge: Interagency Steering Committee on Radiation Standards (ISCORS) Dose Modeling Report—An SAB Advisory” (see 65 FR 70906, dated November 28, 2000 for details).

Availability of Review Materials

Drafts of the reports that will be reviewed at the meeting will be available to the public on the SAB website (http://www.epa.gov/sab) approximately two weeks prior to the meeting. An agenda will also be posted to the website at that time or can be requested from Ms. Pozun.

Charge to the Executive Committee

The focus of the review of these two reports will be on the following questions:

(a) Has the SAB adequately responded to the questions posed in the Charge?

(b) Are the statements and/or responses in the draft report clear?

(c) Are there any errors of fact in the report?

Providing Oral or Written Comments

In accord with the Federal Advisory Committee Act (FACA), the public and the Agency are invited to submit written comments on these three questions that are the focus of the review. Submissions should be received by May 18, 2001 by Ms. Diana Pozun, EPA Science Advisory Board, Mail Code 1400A, U.S. Environmental Protection Agency, 1200 Pennsylvania Ave., NW., Washington DC 20460. (Telephone (202) 564-4544, FAX (202) 501-0582; or via e-mail at pozun.diana@epa.gov). Submission by e-mail to Ms. Pozun will maximize the time available for review by the Executive Committee. The SAB will have a brief period available during the teleconference for applicable oral public comment. Therefore, anyone wishing to make oral comments on the three focus questions above, but that are not duplicative of the written comments, must contact Dr. Donald G. Barnes, Designated Federal Officer for the Executive Committee (see contact information below), in writing no later than May 16, 2001.

For Further Information

Any member of the public wishing further information concerning this meeting should contact Dr. Donald Barnes, Designated Federal Officer, US EPA Science Advisory Board (1400A), 1200 Pennsylvania Avenue, NW., Washington, DC 20460-0001; telephone (202) 564-4533; FAX (202) 501-0323; or via e-mail at barnes.don@epa.gov.

Providing Oral or Written Comments at SAB Meetings

It is the policy of the Science Advisory Board to accept written public comments of any length, and to accommodate oral public comments whenever possible. The Science Advisory Board expects that public statements presented at its meetings will not be repetitive of previously submitted oral or written statements. Oral Comments: In general, each individual or group requesting an oral presentation at a face-to-face meeting will be limited to a total time of ten minutes. For conference call meetings, opportunities for oral comment will usually be limited to no more than three minutes per speaker and no more than fifteen minutes total, unless otherwise stated. Deadlines for getting on the public speaker list for a meeting are given above. Speakers should bring at least 35 copies of their comments and presentation slides for distribution to the reviewers and public at the meeting. Written Comments: Although the SAB accepts written comments until two days following the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file formats: WordPerfect, Word, or Rich Text files (in IBM-PC/Windows 95/98 format). Those providing written comments and who attend the meeting are also asked to bring 25 copies of their comments for public distribution.

General Information

Additional information concerning the EPA Science Advisory Board, its structure, function, and composition, may be found on our Website (http://www.epa.gov/sab) and in The FY2000 Annual Report of the Staff Director which is available from the SAB Publications Staff at (202) 564-4533 or via fax at (202) 501-0256. Committee rosters, draft Agendas and meeting calendars are also located on our website.

Meeting Access

Individuals requiring special accommodation at this meeting, including wheelchair access to the conference room, should contact the appropriate DFO at least five business days prior to the meeting so that appropriate arrangements can be made.

Dated: April 16, 2001.
Donald G. Barnes,
Staff Director, Science Advisory Board.

[FR Doc. 01-10252 Filed 4-24-01; 8:45 am]

BILLING CODE 6560-50-P